DEPARTMENT OF HOMELAND SECURITY

Transportation Security Administration

New Agency Information Collection Activity Under OMB Review: Office of Law Enforcement/Federal Air Marshal Service LEO Reimbursement Request—Invoice

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on July 6, 2015, at 80 FR 38454. The collection involves the reimbursement of expenses incurred by airport operators for the provision of law enforcement officers (LEOs) to support airport security checkpoint screening.

DATES: Send your comments by October 22, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: LEO Reimbursement Request—Invoice.

Type of Request: Extension of currently approved collection.

OMB Control Number: 1652-0063.

Form(s): LEO Reimbursement Request—Invoice.

Affected Public: Airport operators.

Abstract: Pursuant to 49 U.S.C. 106(m) and 114(m), TSA has authority to enter into agreements with airport operators to reimburse expenses they incur for the provision of LEOs in support of screening at airport security checkpoints. Consistent with this authority, TSA, through its Office of Law Enforcement/Federal Air Marshal Service (OLE/FAMS), has created the LEO Reimbursement Program. TSA requires that participants in the LEO Reimbursement Program record the details of all reimbursements sought on the LEO Reimbursement Request—Invoice form. TSA will use this form to provide for the orderly tracking of reimbursements.

Number of Respondents: 326.

Estimated Annual Burden Hours: An estimated 3,912 hours annually.

Dated: September 16, 2015.
Christina A. Walsh,
TSA Paperwork Reduction Act Officer, Office of Information Technology.

[FR Doc. 2015-24010 Filed 9-21-15; 8:45 am]

BILLING CODE 4910-05-P